DEPARTMENT OF LABOR

Employment and Training Administration

[TA-W-53,679]

General Cable, Taunton, MA; Notice of Negative Determination on Reconsideration on Remand

The United States Court of International Trade (USCIT) granted the Department of Labor's request for voluntary remand of the negative determination on reconsideration in United Electrical, Radio and Machine Workers of America (General Cable) v. U.S. Secretary of Labor, Court No. 04-00390.

The Department's denial of Trade Adjustment Assistance (TAA) for the workers of General Cable, Taunton, Massachusetts was issued on January 13, 2004 and was published in the Federal Register on February 6, 2004 (69 FR 5866). The workers produce copper wire and polyvinylchloride (PVC) plastic compounds and are separately identifiable by product line.

The subject company and the United Electrical, Radio and Machine Workers of America, District Council 2 (“Union”) filed a joint primary- and secondarily-affected petition, claiming that the subject company lost sales to customers importing and that the subject company lost business as a supplier, assembler or finisher of products or components for a trade-affected primary company (General Cable, Montoursville, Pennsylvania).

The initial investigation revealed that during the relevant time period, the subject company did not supply a component to a primary firm engaged in production whose workers were currently certified as trade impacted. The primary firm ceased production in 2001 and the TAA certification of workers at that facility expired November 9, 2003. The investigation also revealed that sales and production at the subject company increased in 2003 from 2002 levels.

By application dated February 4, 2004, the Union requested administrative reconsideration of the negative determination, stating that the relevant period investigated by the Department is not an accurate measure in determining workers' eligibility for TAA and suggests that the Department should extend the investigation back to the beginning of 2000. The Notice of Negative Determination Regarding Application for Reconsideration was issued on March 23, 2004 and was published in the Federal Register on June 8, 2004 (69 FR 32046).

The request for reconsideration was denied because the closure of the primary company occurred before the relevant time period (November 20, 2002 through November 20, 2003). The TAA statute established the investigatory period as the twelve full months prior to the petition date (November 20, 2003).

By application of July 31, 2004, the Union sought judicial review from the USCIT. In response to the petitioner's appeal, the Department requested, and was granted, a voluntary remand. The Order was issued on September 16, 2004.

In its remand investigation, the Department determined that the workers of the firm are separately identifiable as to whether they are engaged in the production of copper wire or PVC compound.

The Department contacted the company for sales, production, and import figures for copper wire and PVC compound produced at the subject facility during 2002, 2003, January-November 2002 and January-November 2003 as well as information regarding the subject company's customers.

The investigation on remand determined that the subject firm did not import copper wire or PVC compound during 2002, 2003, January-November 2002 and January-November 2003.

The remand investigation determined that there was no loss of business with customers purchasing copper wire during the relevant period. Production of copper wire increased at the subject facility in 2003 from 2002 levels and increased during January-November 2003 from January-December 2002 levels.

To support its findings on remand, the Department also conducted a new customer survey of the subject company's major customers regarding their purchases of copper wire during 2002, 2003, January-November 2002 and January-November 2003. The investigation revealed that the customers did not increase import purchases (direct or indirect) of copper wire during 2002, 2003, January-November 2002 and January-November 2003.

The Department determined on its remand investigation that PVC compound production at the subject firm decreased in 2003 from 2002 levels and decreased during January-November 2003 from January-December 2002 levels.

The Department conducted a new customer survey of the subject company's major customers regarding their purchases of PVC compound during 2002, 2003, January-November 2002 and January-November 2003. The investigation revealed that the customers did not increase import purchases (direct or indirect) of PVC compound during 2002, 2003, January-November 2002 and January-November 2003. Therefore, the Department determined that the workers of the firm producing PVC compound are not impacted by imports of PVC compound.

The remand investigation also confirmed that workers of General Cable, Taunton, Massachusetts, cannot be considered secondarily affected because sales of copper wire and PVC compound to the primary firm ceased in 2001 (copper wire in August 2001 and PVC compound in September 2001). As previously determined, the primary firm ceased its production in 2001.

Conclusion

After reconsideration on remand, I affirm the original notice of negative determination of eligibility to apply for adjustment assistance for workers and former workers of General Cable, Taunton, Massachusetts.

Signed at Washington, DC, this 16th day of November 2004.
Linda G. Poole,
Certifying Officer, Division of Trade Adjustment Assistance.

[FR Doc. E4-3291 Filed 11-22-04; 8:45 am]

BILLING CODE 4510-30-P